DEPARTMENT OF DEFENSE

Office of the Secretary

[Docket ID DOD-2018-OS-0001]

Proposed Collection; Comment Request

AGENCY: Office of the Secretary of Defense, DoD.

ACTION: 60-Day information collection notice.

SUMMARY: In compliance with the Paperwork Reduction Act of 1995, the Defense Security Service (DSS) announces the proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 19, 2018.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to: Defense Security Service, ATTN: Mr. Troy Littles, Chief of Staff, 27130 Telegraph Road, Quantico, VA 22134.

SUPPLEMENTARY INFORMATION:

Title and OMB Number: Personnel Security Investigation Projection for Industry Census Survey; OMB Number 0704-0417.

Needs and Uses: Executive order (E.O.) 12829, “National Industrial Security Program (NISP),” stipulates that the Secretary of Defense shall serve as the Executive Agent for inspecting and monitoring the contractors, licensees, and grantees who require or will require access to classified information; and for determining the eligibility for access to classified information of contractors, licensees, and grantees and their respective employees. The Under Secretary of Defense for Intelligence assigned Defense Security Service (DSS) the responsibility for central operational management of NISP personnel security investigation (PSI) workload projections, and for monitoring of NISP PSI funding and investigations. The execution of the collection instrument is an essential element of DSS' ability to plan, program and budget for the PSI needs of NISP personnel security investigations.

Affected Public: Cleared business or other for profit; not-for-profit institutions under Department of Defense Security Cognizance approved for storage of classified materials.

Annual Burden Hours: 5,210.50.

Number of Respondents: 10,421.

Responses per Respondent: 1.

Average Burden per Response: 30 minutes.

Frequency: Annually.

In this annual collection of information, DSS asks the Facility Security Officers of cleared contractor entities to provide for each of three upcoming fiscal years (e.g., 2018, 2019, 2020): projections of the numbers and types of personnel security investigations (PSIs) required; a description of methodology used for the projections; and estimates of the numbers and types of cleared contractor's PSI projections that are separately attributable to DoD contracts and the contracts of non-DoD agencies. The data will be incorporated into DSS budget submissions and used to track against actual PSI submissions. PSI projections are collected electronically via a PSI module within the National Industrial Security System (NISS) which displays OMB approval number 0704-0417.

Dated: January 11, 2018.
Aaron Siegel,
Alternate OSD Federal Register Liaison Officer, Department of Defense.

[FR Doc. 2018-00702 Filed 1-16-18; 8:45 am]

BILLING CODE 5001-06-P